DEPARTMENT OF COMMERCE

National Oceanic and Atmospheric Administration

[I.D. 070202D]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting which is open to the public.

DATES: The GMT working meeting will begin Monday, July 29, 2001 at 1 p.m. and may go into the evening until business for the day is completed. The meeting will reconvene from 8 a.m. to 5 p.m. Tuesday, July 30 through Friday, August 2.

ADDRESSES: The meetings will be held at: Pacific Fishery Management Council, 7700 NE Ambassador Place, Suite 200, Portland, OR 97220-1384, (503) 820-2280.

Council address: Pacific Fishery Management Council, 7700 NE Ambassador Place, Suite 200, Portland, OR 97220-1384.

FOR FURTHER INFORMATION CONTACT: John DeVore, Groundfish Fishery Management Coordinator; telephone: (503) 820-2280.

SUPPLEMENTARY INFORMATION: The primary purpose of the GMT meeting is to prepare final recommendations regarding groundfish harvest levels and management for 2003. The GMT will also prepare reports, recommendations, and analyses in support of various Council decisions through the remainder of the year. The following specific items comprise the draft agenda: (1) prepare final acceptable biological catch (ABC) and optimum yield (OY) recommendations for 2003, (2) calculate limited entry, open access, and other allocations, (3) evaluate management options and the Environmental Assessment of Proposed Groundfish Management Measures and Specifications for 2003, (4) complete and/or review economic/social analysis of proposed harvest levels and management measures for 2003, (5) evaluate a restructured bycatch model, (6) complete and/or review rebuilding plans for overfished groundfish stocks,(7) resolve any outstanding recreational data issues and evaluate the need for inseason management adjustments, (8) consider recommending any Exempted Fishing Permits, (9) evaluate Programmatic Environmental Impact Statements, (10) recommend 2003 groundfish stock assessment priorities, (11) evaluate issues and consider recommendations for delegating nearshore management authority to the states, (12) consider recommendations for FMP Amendment 17 and multi-year management issues, (13) consider recommendations for marine reserve proposals for Channel Island National Marine Sanctuary, and (14) other miscellaneous Council groundfish issues.

Although non-emergency issues not contained in this agenda may come before the GMT for discussion, those issues may not be the subject of formal GMT action during this meeting. GMT action will be restricted to those issues specifically listed in this notice and any issues arising after publication of this notice that require emergency action under section 305(c) of the Magnuson-Stevens Fishery Conservation and Management Act, provided the public has been notified of the GMT's intent to take final action to address the emergency.

Special Accommodations

The meeting is physically accessible to people with disabilities. Requests for sign language interpretation or other auxiliary aids should be directed to Ms. Carolyn Porter at (503) 820-2280 at least 5 days prior to the meeting date.

Dated: July 9, 2002.
Richard W. Surdi,
Acting Director, Office of Sustainable Fisheries, National Marine Fisheries Service.

[FR Doc. 02-17558 Filed 7-11-02; 8:45 am]

BILLING CODE 3510-22-S